NUCLEAR REGULATORY COMMISSION

Appointments to Performance Review Boards for Senior Executive Service

AGENCY: Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level employees:

Patricia G. Norry, Deputy Executive Director for Management Services, Office of the Executive Director for Operations;

Edward T. Baker, Deputy Director, Office of International Programs;

Stephen G. Burns, Deputy General Counsel, Office of the General Counsel;

James E. Dyer, Director, Office of Nuclear Reactor Regulation;

Jesse L. Funches, Chief Financial Officer;

William F. Kane, Deputy Executive Director for Homeland Protection and Preparedness, Office of the Executive Director for Operations;

Bruce S. Mallett, Regional Administrator, Region IV;

Jacqueline E. Silber, Deputy Chief Information Officer;

Jack R. Strosnider, Deputy Director, Office of Nuclear Regulatory Research;

Martin J. Virgilio, Director, Office of Nuclear Material Safety and Safeguards;

Michael F. Weber, Deputy Director, Office of Nuclear Security and Incident Response.

The following individuals will serve as members of the NRC PRB Panel that was established to review appraisals and make recommendations to the appointing and awarding authorities for NRC PRB members:

Karen D. Cyr, General Counsel, Office of the General Counsel;

Ellis W. Merschoff, Chief Information Officer;

Carl J. Paperiello, Deputy Executive Director for Materials, Research, and State Programs, Office of the Executive Director for Operations.

All appointments are made pursuant to section 4314 of chapter 43 of title 5 of the United States Code.

EFFECTIVE DATE: April 23, 2004.

FOR FURTHER INFORMATION, CONTACT: Secretary, Executive Resources Board, U.S. Nuclear Regulatory Commission, Washington, DC 20555; (301) 415-7530.

Dated in Rockville, Maryland, this 7th day of April, 2004.
For the U.S. Nuclear Regulatory Commission.
Carolyn J. Swanson,
Secretary, Executive Resources Board.

[FR Doc. E4-911 Filed 4-22-04; 8:45 am]

BILLING CODE 7590-01-P